DEPARTMENT OF AGRICULTURE

Rural Housing Service

7 CFR Part 3560

[Docket No RHS-24-MFH-0035]

RIN 0575-AD35

Revisions to the Smoke Alarm Requirements in the Section 515 Rural Rental Housing and Section 514/516 Farm Labor Housing Direct Loan Programs

AGENCY: Multi-Family Housing, Rural Housing Service, U.S. Department of Agriculture (USDA).

ACTION: Final rule.

SUMMARY: The Rural Housing Service (RHS or Agency), a Rural Development (RD) agency of the United States Department of Agriculture (USDA), is amending its regulation to implement changes related to the smoke alarm requirements for properties that receive funding from the Multi-Family Housing Section 515 Rural Rental Housing and the Section 514/516 Farm Labor Housing Direct Loan and Grant Programs. These changes are intended to align the Agency's smoke alarm requirements with the requirements set forth in the Consolidated Appropriations Act, 2023. The Consolidated Appropriations Act, 2023, requires each unit of Federally assisted housing to contain hardwired or 10-year non-rechargeable, non-replaceable, sealed, tamper-resistant, primary battery-powered smoke alarm devices containing silencing means, and provides notification for persons with hearing loss as required by applicable law (Qualifying Smoke Alarm requirements).

DATES: This final rule is effective January 21, 2025.

FOR FURTHER INFORMATION CONTACT: Barbara Chism, Multi-Family Housing Asset Management Division, Rural Housing Service, 1400 Independence Avenue SW, Washington DC 20250-0782, Telephone: (202) 690-1436; Email: Barbara.Chism@usda.gov.

SUPPLEMENTARY INFORMATION:

I. Background

The RHS offers a variety of programs to build or improve housing and essential community facilities in rural areas. RHS offers loans, grants, and loan guarantees for single- and multi-family housing, childcare centers, fire and police stations, hospitals, libraries, nursing homes, schools, first responder vehicles and equipment, and housing for farm laborers. RHS also provides technical assistance loans and grants in partnership with non-profit organizations, Indian tribes, State and Federal Government agencies, and local communities.

Title V of the Housing Act of 1949 authorized the USDA to make housing loans to farmers to enable them to provide habitable dwellings for themselves or their tenants, lessees, sharecroppers, and laborers. The USDA then expanded opportunities in rural areas, making housing loans and grants to rural residents through the Single-Family Housing (SFH) and Multi-Family Housing (MFH) Programs.

The RHS administers the MFH section 515 Rural Rental Housing Direct Loan Program under 7 CFR part 3560, subpart B. The Section 515 program employs a public-private partnership by providing subsidized loans at an interest rate of one percent to developers to construct or renovate affordable rental complexes in rural areas. This one percent loan keeps the debt service on the property sufficiently low to support below-market rents affordable to low-income tenants. Many of these projects also utilize other Federal, State, and local funding sources and rental subsidies such as HUD's Section 8 and low-income housing tax credit proceeds.

The RHS also operates the MFH Farm Labor Housing Direct Loan and Grant Program under sections 514 and 516 set forth in 7 CFR part 3560, subparts L and M. The MFH Farm Labor Housing Direct Loan and Grant Program provides low interest loans and grants to provide housing for farmworkers. These eligible farmworkers may either live and work at the borrower's farm, including seasonal and migrant workers (“on-farm”), or they may live away from the farm (“off-farm”).

Under the current regulation, borrowers are required to install and maintain smoke alarms in all dwelling units, common use areas, and other spaces in all residential buildings included as security for Agency financed loans and grants. Borrowers must also ensure that smoke alarms are properly located to protect tenant safety and the value of the Agency's asset. Failure to maintain adequate smoke alarms may lead to injury of persons, damage to property, or a non-monetary loan default.

II. Purpose of This Regulatory Action

On December 29, 2022, the President signed into law the Consolidated Appropriations Act, 2023 (Pub. L. 117-328) (Act), which incorporated The Public and Federally Assisted Housing Fire Safety Act, 2022, which requires each unit and common use areas of Federally assisted housing to contain hardwired or 10-year non-rechargeable, sealed, tamper-resistant primary battery-powered smoke alarm devices, as well as other items. The Act further amended the Housing Act of 1949, to implement these new smoke detector requirements for Section 515 Rural Rental Housing and Section 514/516 Farm Labor Housing Direct Loan Programs Public Law 117-328, div. AA, title VI, sec. 601. This final rule will implement the requirements the Act which is intended to: (1) align the smoke alarm requirements with more stringent requirements for Federally assisted housing industry standards; (2) increase the safety of tenants and visitors at properties; (3) reduce the risk of losing available affordable housing units in rural communities due to uninhabitability caused by smoke and fire damage as a result of outdated smoke alarm devices; and (4) provide the Agency with additional protection from the loss of its security value.

Discussion of the Public Comments

RHS published a proposed rule on January 8, 2024 [89 FR 892], in the Federal Register to solicit comments on the proposed changes to 7 CFR part 3560 of subpart B and 7 CFR 3560.103(a)(3)(xx) of subpart C related to smoke alarm requirements for Section 515 Rural Rental Housing and Section 514/516 Farm Labor Housing Direct Loan and Grant Programs. The comment period ended on March 8, 2024. No changes were made in this final rule as a result of public comments.

RHS received comments from sixteen respondents. Commenters included three anonymous, nine private individuals, two property management agencies, one housing authority, and one national trade association. In addition, two comments from respondents were submitted in duplicate. Each comment is addressed, and duplicates are addressed in one statement.

The comments the Agency received are summarized as follows:

Public Comment: Two anonymous, four individuals, and one property management agent respondents expressed full support for the proposed rule.

Agency's Response: The Agency appreciates the respondents' support and has determined that no action is required.

Public Comment: Two individual respondents expressed concern for the poor and substandard living conditions and safety of farmworker housing in America and ensuring that smoke alarms in Federally assisted housing are installed identically, legally, and safely. The comment stated it would be beneficial to apply this rule to temporary labor camp housing as well, if not already intended to be included.

Agency's Response: The Agency appreciates the respondent's position and acknowledges the concern. The Agency does not fund temporary labor camp housing. The housing funded by the Agency's MFH Farm Labor Housing Direct Loan and Grant Program is intended for year-round and seasonal residential use by farmworkers. The Agency's farmworker housing, which is subject to the Qualifying Smoke Alarm requirements, contains appropriate furnishings and equipment, and is routinely inspected by the Agency to ensure it is maintained in a decent, safe, and sanitary manner.

Public Comment: One individual respondent expressed concern for flammable substances often involved in agricultural processes, and that the minimal cost to purchase and install smoke detectors far outweighs the monetary and physical consequences of a fire without an alarm system.

Agency's Response: The Agency appreciates the respondent's support and has determined that no action is required.

Public Comment: One individual respondent expressed concern about the Agency's efforts to improve outdated policies to improve conditions for farm labor housing residents, and how this rule will be implemented and enforced.

Agency's Response: The Agency appreciates the respondent's concern. The Agency implements regulations, policies and procedures with a focus to protect the health and safety of residents in its properties, including policies aimed at improving living conditions for farm labor housing residents. The Agency's routine physical inspections historically show that farm labor housing properties are currently in compliance with the smoke alarm requirements. With the effective date of this rule, properties found to be out of compliance with Qualifying Smoke Alarm requirements will be given written notice of a 30-day period to resolve the violation, which is considered a health and safety violation requiring immediate action. The Agency makes every effort to work closely with property owners and management agents to resolve any outstanding compliance issues prior to recommending legal action and levying monetary penalties.

Public Comment: One individual respondent expressed the concern that combining smoke and carbon monoxide detectors should be prohibited in all USDA Housing Programs because each device requires opposite positioning to be effective.

Agency's Response: The Agency appreciates the respondent's position and acknowledges the concern. Although this rule does not address a combined installation of smoke and carbon monoxide detectors, the Agency will take the respondent's comment under advisement as future fire and smoke alarm policies are developed.

Public Comment: One anonymous respondent expressed concern for the steady rate of increased housing repair and replacement costs in the affordable housing industry due to demand/supply constraints in the market for labor and materials. The respondent stated that the proposed rule aligns with more stringent requirements for smoke alarms, and that the Agency should prioritize ensuring that every home within the scope of the MFH Program has a reliable smoke alarm.

Agency's Response: The Agency appreciates the respondent's position and acknowledges the concern. The Agency endeavors to utilize current programs for assisting owners to obtain needed affordable funding sources for housing repair and replacement costs and has determined that no action is required. The Consolidated Appropriations Act, 2023 requires that all dwelling units rehabilitated or repaired with a loan made or insured under the Act shall contain Qualifying Smoke Alarms that are installed in accordance with applicable codes and standards.

Public Comment: The housing authority respondent expressed concerns that the proposed rule does not include funding to purchase and install the required equipment. This creates a financial burden on the project. To implement this requirement, other necessary repairs will likely be sidelined when having to decide how to fund everything needed by the project.

Agency's Response: The Agency appreciates the respondent's position and acknowledges the concerns regarding the costs associated with this requirement. Except for a select number of properties not in compliance and in need of substantial replacements, the Agency does not consider the overall cost to upgrade to be substantial. The cost of upgrading to the Qualifying Smoke Alarm is an eligible expense that may be paid from the property's operating funds. The Agency will utilize existing servicing methods to assist borrowers experiencing a financial hardship to ensure compliance with this rule.

Public Comment: A national trade association respondent expressed their commitment to supporting technological advancements and changes to national consensus codes and standards that will increase the number of operational smoke alarms in U.S. homes. The respondent's position is that consumers should be free to choose which smoke alarms are present in their homes, provided those devices comply with consensus codes and standards. The respondent does not support legislation that attempts to mandate one type of life safety technology at the exclusion of other important technologies.

Agency's Response: The Agency appreciates the respondent's position and acknowledges the concern. Federally funded residential properties must comply with established Federal and local fire protection laws and standards, at a minimum. The Agency does not preclude borrowers and management agents from purchasing and installing life saving features that exceed the minimum Federal requirements. The Agency is mandating this type of life safety technology for buildings that are Federally funded to comply with established Federal and local fire protection laws and standards. This will ensure that safe and uniform lifesaving notification methods are consistently being used at all times. RHS is required to abide by the latest statutes and regulations and as new life saving technologies become available and are Federally adopted, the Agency will comply. In addition, the Agency will take the recommendation of additional policy guidance promoting monthly testing, and the installation of extra life safety technologies not supported by 10-year batteries, such as Low-Frequency Audible Alarms (Enhanced Waking Effectiveness), Multiple Sensing Technology Alarms, Control Units, and Interconnection if it exceeds Federally mandated requirements under advisement.

Public Comment: One property management agency respondent expressed concern that the rule as proposed by RD is incorrectly stated. The Consolidated Appropriations Act, 2023 requires smoke detectors to provide notification for persons with hearing loss, whereas the Public and Federally Assisted Housing Fire and Safety Act of 2022 does not. Respondent questions the sensibility of requiring all units in the housing development to contain a notification system for individuals with hearing loss regardless of whether a non-hearing loss household occupies the unit. Also, the rule should define what RD considers “Substantially Rehabilitated” for purposes of requiring hardwired smoke detectors. The cost of implementing the rule without funding provided for in title VI section 601(g) of the Appropriations Act creates a significant cost for older properties already struggling. USDA should state in its rule how it will reimburse properties for the cost of complying with the requirements or allow owners to opt out of the program.

Agency's Response: The Agency appreciates the commenters remarks and has stated the final rule as presented in title VI, section 601(e)(3)(B)(ii) of the Consolidated Appropriations Act, 2023 and affirms the Qualifying Smoke Alarm Definition in the final Smoke Alarm rule mirrors that of the Housing Act of 1949, as amended. The Agency has determined that the language in the final rule informs that only units housing an individual with hearing loss must contain a notification system.

III. Summary of Changes

The final changes are as follows:

1. A new paragraph (e) will be added to § 3560.60 that cross-references § 3560.103(a)(3)(xx), which includes the Qualifying Smoke Alarm requirements that a smoke alarm must contain hardwired or 10-year non-rechargeable, non-replaceable, sealed, tamper-resistant, primary battery-powered smoke alarm devices containing silencing means, and provides notification for persons with hearing loss as required by applicable law.

2. The new Qualifying Smoke Alarm requirements will be added to § 3560.103(a)(3)(xx) which will set forth the new requirements that are cross-referenced in § 3560.60.

IV. Regulatory Information

Statutory Authority

The changes in this final rule are authorized under the Consolidated Appropriations Act, 2023, (Pub. L. 117-328), div. AA, title VI, sec. 601 and is authorized under sections 514(k), 515(m), and 516(c) of title V of the Housing Act of 1949, as amended; 42 U.S.C. 1480 et seq.; and implemented under 7 CFR part 3560.

Executive Order 12372, Intergovernmental Review of Federal Programs

These loans are subject to the provisions of Executive Order 12372, which requires intergovernmental consultation with State and local officials. RHS conducts intergovernmental consultations for each loan in accordance with 2 CFR part 415, subpart C.

Executive Order 12866, Regulatory Planning and Review

This final rule has been determined to be non-significant and, therefore, was not reviewed by the Office of Management and Budget (OMB) under Executive Order 12866.

Executive Order 12988, Civil Justice Reform

This final rule has been reviewed under Executive Order 12988. In accordance with this rulemaking: (1) Unless otherwise specifically provided, all State and local laws that conflict with this rulemaking will be preempted; (2) no retroactive effect will be given to this rulemaking except as specifically prescribed in the rule; and (3) administrative proceedings of the National Appeals Division of the Department of Agriculture (7 CFR part 11) must be exhausted before suing in court that challenges action taken under this rulemaking.

Executive Order 13132, Federalism

The policies contained in this final rule do not have any substantial direct effect on states, on the relationship between the National Government and the states, or on the distribution of power and responsibilities among the various levels of government. This final rule does not impose substantial direct compliance costs on State and local governments; therefore, consultation with states is not required.

Executive Order 13175, Consultation and Coordination With Indian Governments

Executive Order 13175 imposes requirements on RHS in the development of regulatory policies that have Tribal implications or preempt Tribal laws. RHS has determined that the final rule does not have a substantial direct effect on one or more Indian tribe(s) or on either the relationship or the distribution of powers and responsibilities between the Federal Government and Indian tribes. Thus, this final rule is not subject to the requirements of Executive Order 13175. If Tribal leaders are interested in consulting with RHS on this rulemaking, they are encouraged to contact USDA's Office of Tribal Relations or RD's Tribal Coordinator at: AIAN@usda.gov to request such a consultation.

Administrative Pay-As-You-Go-Act of 2023

The Administrative Pay-As-You-Go-Act of 2023 (Act) (See Fiscal Responsibility Act of 2023, Pub. L. 118-5, 137 Stat 31, div. B, title III) requires the U.S. Government Accountability Office (GAO) to assess agency compliance with the Act, which establishes requirements for administrative actions that affect direct spending, in GAO's major rule reports. The Act does not apply to this rule because it does not increase direct spending.

Assistance Listing

The programs affected by this regulation are listed in the Assistance Listing Catalog (formerly Catalog of Federal Domestic Assistance) under number 10.415-Rural Rental Housing Loans, 10.427-Rural Rental Assistance Payments, 10.405-Farm Labor Housing Loans and Grants.

Civil Rights Impact Analysis

Rural Development has reviewed this final rule in accordance with USDA Regulation 4300-004, Civil Rights Impact Analysis, to identify any major civil rights impacts the final rule might have on program participants on the basis of age, race, color, national origin, sex, or disability. After review and analysis of the final rule and available data, it has been determined that implementation of the rulemaking will not adversely or disproportionately impact very low, low- and moderate-income populations, minority populations, women, Indian tribes, or persons with disability by virtue of their race, color, national origin, sex, age, disability, or marital or familial status. No major civil rights impact is likely to result from this final rule.

E-Government Act Compliance

RD is committed to the E-Government Act, which requires Government agencies in general to provide the public the option of submitting information or transacting business electronically to the maximum extent possible.

National Environmental Policy Act

This final rule has been reviewed in accordance with 7 CFR part 1970, subpart A, “Environmental Policies.” RHS determined that this action does not constitute a major Federal action significantly affecting the quality of the environment. In accordance with the National Environmental Policy Act of 1969, Public Law 91-190, an Environmental Impact Statement (EIS) is not required.

Paperwork Reduction Act

The information collection requirements contained in this final rule have been approved by OMB and have been assigned OMB control number 0575-0189. This final rule contains no new reporting and recordkeeping requirements that would require approval under the Paperwork Reduction Act of 1995 (44 U.S.C. chapter 35).

Regulatory Flexibility Act

This final rule has been reviewed with regard to the requirements of the Regulatory Flexibility Act (5 U.S.C. 601-612). The undersigned has determined and certified by signature on this document that this final rule will not have a significant economic impact on a substantial number of small entities since this rulemaking action does not involve a new or expanded program nor does it require any more action on the part of a small business than required of a large entity.

Unfunded Mandates Reform Act (UMRA)

Title II of the Unfunded Mandates Reform Act of 1995 (UMRA), Public Law 104-4, establishes requirements for Federal agencies to assess the effects of their regulatory actions on State, local, and Tribal Governments and on the private sector. Under section 202 of the UMRA, Federal agencies generally must prepare a written statement, including cost-benefit analysis, for proposed and final rules with “Federal mandates” that may result in expenditures to State, local, or Tribal Governments, in the aggregate, or to the private sector, of $100 million or more in any one year. When such a statement is needed for a rule, section 205 of the UMRA generally requires a Federal agency to identify and consider a reasonable number of regulatory alternatives and adopt the least costly, more cost-effective, or least burdensome alternative that achieves the objectives of the rule.

This final rule contains no Federal mandates (under the regulatory provisions of title II of the UMRA) for State, local, and Tribal Governments or for the private sector. Therefore, this final rule is not subject to the requirements of sections 202 and 205 of the UMRA.

Non-Discrimination Policy

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, staff office; or the Federal Relay Service at (800) 877-8339.

To file a program discrimination complaint, a complainant should complete a Form AD-3027, USDA Program Discrimination Complaint Form, which can be obtained online at https://www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Severability

It is USDA's intention that the provisions of this final rule shall operate independently of each other. In the event that this rule or any portion is ultimately declared invalid or stayed as to a particular provision, it is USDA's intent that the rule nonetheless be severable and remain valid with respect to those provisions not affected by a declaration of invalidity or stayed. USDA concludes it would separately adopt all of the provisions contained in this final rule. USDA is an equal opportunity provider, employer, and lender.

List of Subjects in 7 CFR Part 3560

Accounting, Administrative practice and procedure, Aged, Conflicts of interest, Government property management, Grant programs—housing and community development, Insurance, Loan programs—agriculture, Loan programs—housing and community development, Low- and moderate-income housing, Migrant labor, Mortgages, Nonprofit organizations, Public housing, Rent—subsidies, Reporting and recordkeeping requirements, Rural areas.

For the reasons set forth in the preamble, Rural Housing Service amends 7 CFR part 3560 as follows:

PART 3560—DIRECT MULTI-FAMILY HOUSING LOANS AND GRANTS

1. The authority citation for part 3560 continues to read as follows:

Authority: 42 U.S.C. 1480.

Subpart B—Direct Loan and Grant Origination

2. Amend § 3560.60 by adding paragraph (e) to read as follows:

§ 3560.60 Design requirements.

* * * * *

(e) Applicable codes and standards. All housing and related facilities must meet the Qualifying Smoke Alarm requirements in § 3560.103(a)(3)(xx).

Subpart C—Borrower Management and Operations Responsibilities

3. Amend § 3560.103 by revising and republishing paragraph (a)(3)(xx) to read as follows:

§ 3560.103 Maintaining housing projects.

(a) * * *

(3) * * *

(xx) Smoke alarms. The housing project must have Qualifying Smoke Alarms which are installed in accordance with applicable codes and standards as set forth in sections 514(k), 515(m), and 516(c) of the Housing Act of 1949 (42 U.S.C. 1471 et seq.), in each level and in or near each sleeping area in such dwelling unit, including in basements but excepting crawl spaces and unfinished attics, and in each common area in a project containing such a dwelling unit.

(A) Dwelling units built before December 29, 2022, and not substantially rehabilitated after December 29, 2022, smoke alarms must:

(1) Be hardwired; or

(2) Use 10-year non rechargeable, nonreplaceable primary batteries,

(i) Be sealed,

(ii) Tamper resistant,

(iii) Contain silencing means; and

(3) Provide notification for persons with hearing loss as required by applicable standards set forth in sections 514(k), 515(m), and 516(c) of the Housing Act of 1949 (42 U.S.C. 1471 et seq.).

(B) Dwelling units built or substantially rehabilitated after December 29, 2022; smoke alarms must be hardwired.

* * * * *

Joaquin Altoro,
Administrator, Rural Housing Service.

[FR Doc. 2024-30216 Filed 12-18-24; 8:45 am]

BILLING CODE 3410-XV-P